DEPARTMENT OF ENERGY

Federal Energy Regulatory Commission

[Docket No. EG00-89-001, et al.]

Louisiana Generating, LLC, et al.; Electric Rate and Corporate Regulation Filings

March 17, 2000.

Take notice that the following filings have been made with the Commission:

1. Louisiana Generating LLC

[Docket No. EG00-89-001]

Take notice that on March 15, 2000, Louisiana Generating LLC filed with the Federal Energy Regulatory Commission an amendment to its application for determination of exempt wholesale generator status, which was filed on February 3, 2000 in the above-referenced proceeding.

Comment date: March 27, 2000, in accordance with Standard Paragraph E at the end of this notice. The commission will limit its consideration of comments to those that concern the adequacy or accuracy of the application.

2. Engage Energy US, L.P.

[Docket No. ER97-654-015]

Take notice that on March 15, 2000, Engage Energy US, L.P. filed a quarterly report for information only.

3. Amerada Hess Corporation

[Docket No. ER97-2153-011]

Take notice that on March 13, 2000, Amerada Hess Corporation filed a quarterly report for information only.

4. ATCO Power Canada Ltd.

[Docket No. ER99-3282-003]

Take notice that on March 14, 2000, ATCO Power Canada Ltd. filed a quarterly report for information only.

5. J.T. Petillo

[Docket No. ID-3466-000]

Take notice that on March 13, 2000, J. T. Petillo filed an Application for Authority to Hold Interlocking Positions pursuant to 18 CFR 45.1, Section 305(b) of the Federal Power Act, 16 U.S.C. Section 825d(b) and the Federal Energy Regulatory Commission's (Commission) March 29, 1996 order in Docket No. ER96-939-000.

Comment date: April 12, 2000, in accordance with Standard Paragraph E at the end of this notice.

6. Southern California Edison Company

[Docket No. ER98-441-017]

Take notice that on March 14, 2000, Williams Energy Marketing & Trading Company (Williams), tendered for filing a refund report as required by Commission Order issued January 31, 2000, in the above-captioned proceeding.

Comment date: April 4, 2000, in accordance with Standard Paragraph E at the end of this notice.

7. Ogden Martin Systems of Union, Inc.

[Docket No. ER00-1155-001]

Take notice that on March 14, 2000, Ogden Martin Systems of Union, Inc., tendered for filing a supplement to its Power Sales Agreement filed with the Commission in Docket No. ER00-1155-000.

Comment date: April 4, 2000, in accordance with Standard Paragraph E at the end of this notice.

8. Arizona Public Service Company

[Docket No. ER00-1875-000]

Take notice that on March 14, 2000, Arizona Public Service Company (APS), tendered for filing a revised Market Power Study for APS FERC Electric Tariff, Original Volume No. 3.

A copy of this filing has been served to all parties on the Service List.

Comment date: April 4, 2000, in accordance with Standard Paragraph E at the end of this notice.

9. Public Service Company of New Mexico

[Docket No. ER00-1876-000]

Take notice that on March 14, 2000, Public Service Company of New Mexico (PNM), tendered for filing executed service agreements, for point-to-point transmission service under the terms of PNM's Open Access Transmission Service Tariff, with Arizona Electric Power Cooperative, Inc. (2 agreements, for Non-Firm and Short-Term Firm Service, dated March 1, 2000). PNM's filing is available for public inspection at its offices in Albuquerque, New Mexico.

Comment date: April 4, 2000, in accordance with Standard Paragraph E at the end of this notice.

10. Duke Energy Corporation

[Docket No. ER00-1878-000]

Take notice that on March 14, 2000, Duke Energy Corporation (Duke), tendered for filing a Service Agreement with El Paso Merchant Energy, L.P., for Non-Firm Transmission Service under Duke's Open Access Transmission Tariff.

Duke requests that the proposed Service Agreement be permitted to become effective on February 24, 2000.

Duke states that this filing is in accordance with Part 35 of the Commission's Regulations and a copy has been served on the North Carolina Utilities Commission.

Comment date: April 4, 2000, in accordance with Standard Paragraph E at the end of this notice.

11. Duke Energy Corporation

[Docket No. ER00-1879-000]

Take notice that on March 14, 2000, Duke Energy Corporation (Duke), tendered for filing a Service Agreement with Aquila Energy Marketing Corporation, for Firm Point-To-Point Transmission Service under Duke's Open Access Transmission Tariff.

Duke requests that the proposed Service Agreement be permitted to become effective on February 24, 2000.

Duke states that this filing is in accordance with Part 35 of the Commission's Regulations and a copy has been served on the North Carolina Utilities Commission.

Comment date: April 4, 2000, in accordance with Standard Paragraph E at the end of this notice.

12. Duke Energy Corporation

[Docket No. ER00-1880-000]

Take notice that on March 14, 2000, Duke Energy Corporation (Duke), tendered for filing a Service Agreement with El Paso Merchant Energy, L.P., for Firm Transmission Service under Duke's Open Access Transmission Tariff.

Duke requests that the proposed Service Agreement be permitted to become effective on February 24, 2000.

Duke states that this filing is in accordance with Part 35 of the Commission's Regulations and a copy has been served on the North Carolina Utilities Commission.

Comment date: April 4, 2000, in accordance with Standard Paragraph E at the end of this notice.

13. Duke Energy Corporation

[Docket No. ER00-1881-000]

Take notice that on March 14, 2000, Duke Energy Corporation (Duke), tendered for filing a Service Agreement with Southern Company Energy Marketing L.P., for Firm Transmission Service under Duke's Open Access Transmission Tariff.

Duke requests that the proposed Service Agreement be permitted to become effective on February 24, 2000.

Duke states that this filing is in accordance with Part 35 of the Commission's Regulations and a copy has been served on the North Carolina Utilities Commission.

Comment date: April 4, 2000, in accordance with Standard Paragraph E at the end of this notice.

14. Entergy Services, Inc.

[Docket No. ER00-1882-000]

Take notice that on March 14, 2000, Entergy Services, Inc., on behalf of Entergy Arkansas, Inc. (Entergy Arkansas), tendered for filing a Notice of Cancellation of the Electric Peaking Power Agreement between City of Thayer, Missouri and Entergy Arkansas.

Comment date: April 4, 2000, in accordance with Standard Paragraph E at the end of this notice.

15. New England Power Pool

[Docket No. ER00-1874-000]

Take notice that on March 14, 2000, the New England Power Pool Participants Committee submitted changes to Market Rules and Procedures 2, 2-A, 3, 3-A, 3-E and 17.

The NEPOOL Participants Committee states that copies of these materials were sent to the New England state governors and regulatory commissions and the Participants in the New England Power Pool.

Comment date: April 4, 2000, in accordance with Standard Paragraph E at the end of this notice.

16. Texas-New Mexico Power Company v. Public Service Company of New Mexico

[Docket No. EL00-53-000]

Take notice that on March 15, 2000, Texas-New Mexico Power Company (TNMP), tendered for filing a Complaint against Public Service Company of New Mexico (PNM). TNMP requests that the Commission: (1) Issue an injunction that releases 30MW of firm point-to-point transmission service from Four Corners to southern New Mexico to TNMP; and (2) establish a hearing to address the policy issues raised in this Complaint and ascertain the appropriate monetary damages to be awarded to TNMP.

Comment date: April 4, 2000, in accordance with Standard Paragraph E at the end of this notice. Answers to the Complaint shall also be fined on or before April 14, 2000.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-7174 Filed 3-22-00; 8:45 am]

BILLING CODE 6717-01-P